DEPARTMENT OF JUSTICE

Antitrust Division

Notice Pursuant to the National Cooperative Research and Production Act of 1993—Distributed Sensor Technologies

Notice is hereby given that, on March 9, 2008, pursuant to section 6(a) of the National Cooperative Research and Production Act of 1993, 15 U.S.C. 4301 et seq. (“the Act”), Distributed Sensor Technologies has filed written notifications simultaneously with the Attorney General and the Federal Trade Commission disclosing (1) The identities of the parties to the venture and (2) the nature and objectives of the venture. The notifications were filed for the purpose of invoking the Act's provisions limiting the recovery of antitrust plaintiffs to actual damages under specified circumstances.

Pursuant to section 6(b) of the Act, the identities of the parties to the venture are: Distributed Sensor Technologies, Inc., Santa Clara, CA; Redfern Integrated Optics, Inc., Santa Clara, CA; Optiphase, Inc., Van Nuys, CA; and University of Illinois, Chicago, Chicago, IL. The general area of Distributed Sensor Technologies' planned activity is to develop and integrate technologies that can be used to measure civil structure condition monitoring. The method being developed is utilizing distributed fiber sensing technology.

Patricia A. Brink,
Deputy Director of Operations, Antitrust Division.

[FR Doc. E9-8970 Filed 4-20-09; 8:45 am]

BILLING CODE 4410-11-P